FEDERAL COMMUNICATIONS COMMISSION

Open Commission Meeting, Wednesday, July 10, 2019

July 3, 2019.

The Federal Communications Commission will hold an Open Meeting on the subjects listed below on Wednesday, July 10, 2019 which is scheduled to commence at 10:30 a.m. in Room TW-C305, at 445 12th Street SW, Washington, DC.

Item No. | Bureau | Subject
1 | WIRELESS TELE-COMMUNICATIONS | TITLE: Transforming the 2.5 GHz Band (WT Docket No. 18-120).
|  | SUMMARY: The Commission will consider a Report and Order that would allow for more efficient and effective use of 2.5 GHz spectrum by increasing flexibility for existing Educational Broadband Service licensees and providing new opportunities for rural Tribal Nations and other entities to access unused portions of the band.
2 | OFFICE OF ECONOMICS & ANALYTICS | TITLE: Incentive Auction of Upper Microwave Flexible Use Service Licenses in the Upper 37 GHz, 39 GHz, and 47 GHz Bands for Next-Generation Wireless Services (AU Docket No. 19-59).
|  | SUMMARY: The Commission will consider a Public Notice that would establish application and bidding procedures for Auction 103, the incentive auction of Upper Microwave Flexible Use Service licenses in the Upper 37 GHz, 39 GHz, and 47 GHz bands.
3 | WIRELINE COMPETITION | TITLE: Promoting Access to Connected Care Services (WC Docket No. 18-213).
|  | SUMMARY: The Commission will consider a Notice of Proposed Rulemaking that would propose a Connected Care Pilot providing Universal Service Fund support to health care providers to defray the costs of broadband service to enable low-income patients and veterans to access telehealth services. (WC Docket No. 18-213).
4 | WIRELINE COMPETITION | TITLE: Improving Competitive Broadband Access to Multiple Tenant Environments (GN Docket No. 17-142; MB Docket No. 17-91)
|  | SUMMARY: The Commission will consider a Notice of Proposed Rulemaking and Declaratory Ruling that would take steps to promote facilities-based broadband deployment and competition in apartments, condominiums, office buildings, and other multiple tenant environments.
5 | WIRELINE COMPETITION | TITLE: Business Data Services in an Internet Protocol Environment; Petition of USTelecom for Forbearance Pursuant to 47 U.S.C. 160(c) to Accelerate Investment in Broadband and Next-Generation Networks (WC Docket Nos. 16-143, 05-25; GN Docket No. 13-5; RM-10593; WC Docket No. 18-141).
|  | SUMMARY: The Commission will consider (1) a Report and Order on Remand that would grant price cap carriers relief from ex ante pricing regulation of their lower speed Time Division Multiplexing transport business data services nationwide; and (2) a Memorandum Opinion and Order that would partially grant USTelecom's request for forbearance from DS1 and DS3 transport unbundling obligations for price cap carriers.
6 | MEDIA | TITLE: Modernizing Children's Television Programming Rules (MB Docket Nos. 18-202, 17-105).
|  | SUMMARY: The Commission will consider (1) a Report and Order that would modernize children's television programming rules and provide broadcasters greater flexibility in meeting their children's programming obligations; and (2) a Further Notice of Proposed Rulemaking that would seek additional comment on special efforts by broadcasters to produce or support Core Programming.
7 | MEDIA | TITLE: Electronic Delivery of Carriage Election Notices (MB Docket Nos. 17-317, 17-105).
|  | SUMMARY: The Commission will consider (1) a Report and Order that would modernize the carriage election notice provisions in Part 76 of the FCC's Rules; and (2) a Further Notice of Proposed Rulemaking that would seek comment on applying these new procedures to entities that are not required to maintain online public inspection files.
8 | MEDIA | TITLE: Electronic Delivery of Notices to Broadcast Television Stations (MB Docket Nos. 19-165, 17-105).
|  | SUMMARY: The Commission will consider a Notice of Proposed Rulemaking that would propose to modernize certain cable and satellite television provider notice provisions in Part 76 of the FCC's Rules by requiring certain notices to be delivered to broadcasters by email.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Federal Communications Commission.
Marlene Dortch,
Secretary.

[FR Doc. 2019-14722 Filed 7-10-19; 8:45 am]

BILLING CODE 6712-01-P